NUCLEAR REGULATORY COMMISSION

[NRC-2017-0068]

Knowledge and Abilities Catalog for Nuclear Power Plant Operators: Pressurized Water Reactors; Knowledge and Abilities Catalog for Nuclear Power Plant Operators: Boiling Water Reactors

AGENCY: Nuclear Regulatory Commission.

ACTION: Draft NUREGs; request for comment.

SUMMARY: The U.S. Nuclear Regulatory Commission (NRC) is issuing for public comment drafts of NUREG-1122, Revision 3, “Knowledge and Abilities Catalog for Nuclear Power Plant Operators: Pressurized Water Reactors;” and NUREG-1123, Revision 3, “Knowledge and Abilities Catalog for Nuclear Power Plant Operators: Boiling Water Reactors.”

DATES: Submit comments by May 15, 2017. Comments received after this date will be considered if it is practical to do so, but the NRC staff is able to ensure consideration only for comments received on or before this date.

ADDRESSES: You may submit comments by any of the following methods:

• Federal Rulemaking Web site: Go to http://www.regulations.gov and search for Docket ID NRC-2017-0068. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: David Muller, Office of Nuclear Reactor Regulation, U.S. Nuclear Regulatory Commission, Washington, DC 20555-0001; telephone: 301-415-1412, email: David.Muller@nrc.gov.

SUPPLEMENTARY INFORMATION:

I. Obtaining Information and Submitting Comments

A. Obtaining Information

Please refer to Docket ID NRC-2017-0068 when contacting the NRC about the availability of information for this action. You may obtain publicly-available information related to this action by any of the following methods:

• Federal Rulemaking Web site: Go to http://www.regulations.gov and search for Docket ID NRC-2017-0068.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section. The draft NUREGs are available in ADAMS under Accession Nos. ML17097A204 and ML17097A214, respectively. The draft NUREGs will also be accessible through the NRC's Public Site under draft NUREGs for comment.

• NRC's PDR: You may examine and purchase copies of public documents at the NRC's PDR, O1-F21, One White Flint North, 11555 Rockville Pike, Rockville, Maryland 20852.

B. Submitting Comments

Please include Docket ID NRC-2017-0068 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

NUREG-1122 and NUREG-1123 provide the basis for development of content valid examinations used for licensing operators at nuclear power plants under the Commission's regulations contained in part 55 of title 10 of the Code of Federal Regulations (10 CFR), “Operator Licenses.” The examinations developed using NUREG-1122 and NUREG-1123, along with NUREG-1021, “Operator Licensing Examination Standards for Power Reactors,” will sample the topics listed in 10 CFR part 55.

Dated at Rockville, Maryland, this 10th day of April, 2017.
For the Nuclear Regulatory Commission.
Nancy Salgado,
Chief, Operator Licensing Branch, Division of Inspection and Regional Support, Office of Nuclear Reactor Regulation.

[FR Doc. 2017-07604 Filed 4-13-17; 8:45 am]

BILLING CODE 7590-01-P